DEPARTMENT OF TRANSPORTATION

National Highway Traffic Safety Administration

Reports, Forms and Record Keeping Requirements; Agency Information Collection Activity Under OMB Review

AGENCY: National Highway Traffic Safety Administration (NHTSA), DOT.

ACTION: 30-day Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on July 27, 2000 [65 FR 46228].

DATES: Comments must be submitted on or before January 2, 2003.

FOR FURTHER INFORMATION CONTACT: William D. Evans at the National Highway Traffic Safety Administration (NHTSA), Office of Crash Avoidance Standards, 202-366-2272, 400 Seventh Street, SW., Washington, DC 20590.

SUPPLEMENTARY INFORMATION:

National Highway Traffic Safety Administration

Title: 49 CFR Part 571.403 Platform lift systems for motor vehicles; 49 CFR Part 571.404 Platform lift installations in motor vehicles.

OMB Number: 2127-New.

Type of Request: New collection.

Abstract: On July 27, 2000, NHTSA published a Supplemental Notice of Proposed Rulemaking (SNPRM) [65 FR 46228], and a Final Rule will be published eminently, to facilitate the safe use of platform lifts by the disabled population. The regulation will be found at 49 CFR Part 571.403 and 49 CFR Part 571.404. This final rule includes several new “collection of information,” requirements as the term is defined in 5 CFR Part 1320 Controlling Paperwork Burdens on the Public: a label, a vehicle owner's manual insert, and a installation instruction insert.

Affected Public: Businesses that manufacturer platform lifts for the purpose of assisting persons with limited mobility in entering and exiting a vehicle and vehicle manufacturers that install such lifts in vehicles before first retail sale.

Estimated Total Annual Burden: 144 hours and $9315.32.

ADDRESSES: Send comments, within 30 days, to the Office of Information and Regulatory Affairs, Office of Management and Budget, 725 17th Street, NW., Washington, DC 20503, Attention NHTSA Desk Officer.

Comments Are Invited On

• Whether the proposed collection of information is necessary for the proper performance of the functions of the Department, including whether the information will have practical utility.

• Whether the Department's estimate for the burden of the proposed information collection is accurate.

• Ways to minimize the burden of the collection of information on respondents, including the use of automated collection techniques or other forms of information technology.

A comment to OMB is most effective if OMB receives it within 30 days of publication.

Issued on: November 26, 2002.
Noble N. Bowie,
Acting Associate Administrator for Rulemaking.

[FR Doc. 02-30437 Filed 11-29-02; 8:45 am]

BILLING CODE 4910-59-P